DEPARTMENT OF HOMELAND SECURITY

Coast Guard

[Docket No. USCG-2020-0668]

Monitoring of Certain High Frequency, Voice-Distress Frequencies

AGENCY: Coast Guard, DHS.

ACTION: Notice of decision.

SUMMARY: The U.S. Coast Guard will cease monitoring all High Frequency (HF) voice distress frequencies within the contiguous United States and Hawaii because they are rarely used. These frequencies are: 4125 kHz; 6215 kHz; 8291 kHz; and 12290 kHz. Advances in radio technology offer alternative means to send out distress notices. We will continue to monitor HF Digital Selective Calling distress alerting for all existing regions and voice distress alerting and hailing from Kodiak, Alaska, and Guam.

DATES: The Coast Guard will cease monitoring all high frequency voice distress frequencies on February 7, 2022.

FOR FURTHER INFORMATION CONTACT: For information about this document, please call or email Patrick Gallagher, Communications Specialist, Spectrum Management and Communications Policy, U.S. Coast Guard (Commandant CG-672); telephone: 202-475-3537; email: Patrick.J.Gallagher@USCG.mil.

SUPPLEMENTARY INFORMATION: On November 20, 2020, we published a notice in the Federal Register (85 FR 74361) that the Coast Guard was considering no longer monitoring four High Frequency (HF) voice distress frequencies within the contiguous United States and Hawaii. In the notice, we requested feedback from the public on the proposed termination. The comment period closed on January 19, 2021. We received four submissions in response to our inquiry, requesting the Coast Guard maintain these frequencies, due to the cost of purchasing a Digital Selective Calling (DSC)-capable HF radio. DCS-capable radios have been in production and available for purchase to the maritime community for over 20 years and are accessible to all mariners. In addition, low-cost satellite Global Maritime Distress and Safety System (GMDSS) radios have become available to the commercial market.

Due to the advances in radio technology (DSC-capable HF radios and GMDSS Satellite radios), regular HF radio call outs have been virtually nonexistent. DSC technology has been available to the maritime community since 1999 and along with mobile satellite communications has resulted in almost no regular HF voice distress traffic. This has been exemplified by the Coast Guard not having received a single voice distress call that could be correlated to an actual response in excess of 7 years.

The Coast Guard is terminating the monitoring of all HF Voice Distress Frequencies (4125 kHz; 6215 kHz; 8291 kHz; and 12290 kHz) in the contiguous United States and Hawaii. As noted, DSC-capable HF radios have been available for decades and low-cost satellite GMDSS radios are also available. We will continue to monitor the HF DSC distress alerting for all existing regions and voice distress alerting and hailing from Kodiak, Alaska, and Guam.

This notice is issued under the authority of 14 U.S.C. 504(a)(16) and 5 U.S.C. 552(a).

Dated: December 02, 2021.
J.L. Ulcek,
Chief, Spectrum Management and Communication Policy.

[FR Doc. 2021-26518 Filed 12-6-21; 8:45 am]

BILLING CODE 9110-04-P